DEPARTMENT OF ENERGY

Federal Energy Regulatory Commission

[Docket Nos. EG12-63-000; EG12-64-000; EG12-65-000; EG12-66-000; EG12-67-000; EG12-68-000; EG12-69-000]

Topaz Solar Farms LLC; High Plains Ranch II, LLC; Bethel Wind Energy LLC; Rippey Wind Energy LLC; Pacific Wind, LLC; Colorado Highlands Wind, LLC; Shooting Star Wind Project, LLC; Notice of Effectiveness of Exempt Wholesale Generator or Foreign Utility Company Status

Take notice that during the month of May 2012, the status of the above-captioned entities as Exempt Wholesale Generators became effective by operation of the Commission's regulations. 18 CFR 366.7(a).

Dated: August 6, 2012.
Kimberly D. Bose,
Secretary.

[FR Doc. 2012-19780 Filed 8-10-12; 8:45 am]

BILLING CODE 6717-01-P